DEPARTMENT OF COMMERCE

National Oceanic and Atmospheric Administration

RIN 0648-XC892

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a meeting of its Law Enforcement Advisory Panel in conjunction with the Gulf States Marine Fisheries Commission's Law Enforcement Committee.

DATES: The meeting will be held from 8:30 a.m. until 12 noon on Tuesday, October 15, 2013.

ADDRESSES: Meeting address: The meeting will be held at the Isla Grand Beach Resort, 500 Padre Boulevard, South Padre Island, TX 78597; telephone: (956) 761-6511.

Council address: Gulf of Mexico Fishery Management Council, 2203 North Lois Avenue, Suite 1100, Tampa, FL 33607.

FOR FURTHER INFORMATION CONTACT: Mr. Steven Atran, Senior Fishery Biologist, Gulf of Mexico Fishery Management Council; telephone: (813) 348-1630; fax: (813) 348-1711; email: steven.atran@gulfcouncil.org.

SUPPLEMENTARY INFORMATION: The items of discussion on the agenda are as follows:

1. Adoption of Agenda

2. Approval of Minutes (October 17, 2012 Joint Meeting)

3. Review of the Council's Action Schedule

4. Status of Council FMP Amendments

a. Framework Action to Define Charter Fishing

b. Coastal Migratory Pelagics Amendment 19 (permit req. and sale of bag limit fish)

c. Coastal Migratory Pelagics Amendment 20 (trip limits, seasons, transit provisions, ACL, modify framework procedure

d. Reef Fish Amendment 39 (recreational red snapper regional management)

e. Framework Action to Adjust Tier 3 ACLs Using MRIP Data

5. JF Program Activity

a. Blue Crab

b. Gulf Menhaden

c. Gulf and Southern Flounder

6. GSMFC Enforcement Publications

7. JEA Slide Presentation Review

8. State Report Highlights

a. Florida

b. Alabama

c. Mississippi

d. Louisiana

e. Texas

f. USCG

g. NOAA OLE

h. USFWS

9. Other Business

The Law Enforcement Advisory Panel consists of principal law enforcement officers in each of the Gulf States, as well as the National Oceanic and Atmospheric Administration (NOAA) Law Enforcement, U.S. Fish and Wildlife Service (FWS), the U.S. Coast Guard, and the NOAA General Counsel for Law Enforcement. A copy of the agenda and related materials can be obtained by calling the Council office at (813) 348-1630.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: September 24, 2013.
Tracey L. Thompson,
Acting Deputy Director, Office of Sustainable Fisheries, National Marine Fisheries Service.

[FR Doc. 2013-23615 Filed 9-26-13; 8:45 am]

BILLING CODE 3510-22-P